DEPARTMENT OF ENERGY

Federal Energy Regulatory Commission

[Docket No. OR09-4-000]

Holly Refining and Marketing Company, Complainant v. Plains All American Pipeline, L.P. and Rocky Mountain Pipeline System LLC, Respondents; Notice of Complaint

February 19, 2009.

Take notice that on February 17, 2009, pursuant to sections 3(1), 9, 13(1), 15(1) and 16(1) of the Interstate Commerce Act (ICA), 49 U.S.C. App. 3(1), 9, 13(1), 15(1), and 16(1), Rule 206 of the Commission's Rules of Practice and Procedure, 18 CFR 385.206, and section 343.1(a) of the Commission's Procedural Rules Applicable to Oil Pipeline Proceedings, 18 CFR 343.1(a), Holly Refining and Marketing Company (Complainant) filed a complaint against Plains All American Pipeline, L.P. (PAAP) and Rocky Mountain Pipeline System LLC (RMPS) alleging undue and unjust preferential treatment of affiliates of PAAP and RMPS, undue and unjust prejudice and discrimination against the Complainant, and challenging the lawfulness of the proposed reversal of flow on the interstate pipeline segment of RMPS which currently provides crude oil transportation service from Ft. Laramie, Wyoming to Wamsutter, Wyoming.

The Complainant states that a copy of the complaint has been served on the PAAP and RMPS.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on March 9, 2009.

Kimberly D. Bose,
Secretary.

[FR Doc. E9-4085 Filed 2-25-09; 8:45 am]

BILLING CODE 6717-01-P